DEPARTMENT OF ENERGY

Federal Energy Regulatory Commission

[Docket No. EC02-5-000, et al.]

Vermont Yankee Nuclear Power Corporation, et al.; Electric Rate and Corporate Regulation Filings

March 11, 2002.

Take notice that the following filings have been made with the Commission. Any comments should be submitted in accordance with Standard Paragraph E at the end of this notice.

1. Vermont Yankee Nuclear Power Corporation

[Docket Nos. EC02-5-000 and ER02-211-002]

Take notice that on March 4, 2002, Vermont Yankee Nuclear Power Corporation (Vermont Yankee) tendered for filing with the Federal Energy Regulatory Commission (Commission), FERC Electric Rate Schedule, First Revised Volume No. 12, in compliance with the Commission's order issued on February 1, 2002 in Docket Nos. EC02-5-000 and EL02-53-000.

Comment Date: March 25, 2002.

2. International Transmission Company

[Docket No. EC02-28-001]

Take notice that on March 4, 2002, International Transmission Company (International Transmission) tendered a filing in compliance with an order of the Federal Energy Regulatory Commission (Commission) issued on January 31, 2002, in the above-referenced docket, International Transmission Company, 98 FERC ¶ 61,078 (2002). In the order, the Commission directs International Transmission to submit a final updated list of all service agreements under the joint open access transmission tariff.

Comment Date: March 25, 2002.

3. Michigan Electric Transmission Company

[Docket No. ER02-540-001]

Take notice that on March 5, 2002, Michigan Electric Transmission Company (Michigan Transco) tendered for filing a Notice of Cancellation of a Generator Interconnection and Operating Agreement (which is designated as Service Agreement No. 30 under METC's FERC Electric Tariff No. 1) to be effective February 22, 2002 or as soon thereafter as allowed by the Commission.

A copy of the Notice was served on the Generator, Tallmadge Generation Company, L.L.C.

Comment Date: March 26, 2002.

4. Central Maine Power Company

[Docket No. ER02-720-001]

Take notice that on March 5, 2002, in compliance with the Commission=s letter order dated February 20, 2002, Central Maine Power Company (Central Maine) tendered for filing with the Federal Energy Regulatory Commission (Commission), pursuant to Section 205 of the Federal Power Act, executed, unredacted copies of the following service agreements: (1) System Contract Entitlement Agreement; (2) Renewable and Eligible Resource Entitlement Agreement; (3) Nuclear Entitlement Agreement (collectively, Entitlement Agreements). In addition, CMP tendered for filing executed, unredacted copies of the Comprehensive Credit Support and Final Settlement Calculation Agreement (Credit Support Agreement), which pertains to security of respective obligations in the entitlement agreements listed above. CMP further designated these agreements in accordance with Order No. 614, FERC Stats. & Regs. 31,096 (2000).

CMP originally filed the agreements on January 8, 2002, requesting confidential treatment for certain material contained in the agreements that Constellation Power Source, Inc. considered to be competitively sensitive business information. The Commission denied this request for confidentiality by letter order dated February 20, 2002, and requested CMP to re-file the agreements on a non-confidential basis within 15 days of the letter order. See Letter Order, Docket No. ER02-720-000 (Feb. 20, 2002). In addition, the Commission requested CMP to designate the agreements in accordance with Order No. 614.

Comment Date: March 26, 2002.

5. Great Plains Power Incorporated

[Docket No. ER02-725-001]

Take notice that on March 5, 2002, Great Plains Power Incorporated (GPPI) tendered for filing revised tariff sheets in support of its application for authorization to sell power at market-based rates.

Comment Date: March 21, 2002.

6. Allegheny Energy Service Corporation, on Behalf of Monongahela Power Company; The Potomac Edison Company, and West Penn Power Company (Allegheny Power)

[Docket No. ER02-1237-000]

Take notice that on March 4, 2002, Allegheny Energy Service Corporation on behalf of Monongahela Power Company, The Potomac Edison Company and West Penn Power Company (Allegheny Power), filed Service Agreement No. 375 to add RWE Trading Americas Inc. to Allegheny Power's Open Access Transmission Service Tariff which has been accepted for filing by the Federal Energy Regulatory Commission in Docket No. ER96-58-000. The proposed effective date under the Service Agreement is March 1, 2002 or a date ordered by the Commission.

Copies of the filing have been provided to all parties of record.

Comment Date: March 25, 2002.

6. MPC Generating, LLC

[Docket No. ER02-1238-000]

Take notice that on March 4, 2002, MPC Generating, LLC (MPC) tendered for filing a Notice of Succession pursuant to sections 35.16 and 131.51 of the Federal Energy Regulatory Commission's (Commission) Regulations, 18 CFR 35.16 and 131.51. Effective February 1, 2002, MPC succeeded to the FERC Electric Tariff, Original Volume 1, of Monroe Power Company, pursuant to an assignment approved by order of the Commission in Progress Energy, Inc., 97 FERC ¶ 62,192 (2001).

Comment Date: March 25, 2002.

7. Pennsylvania Electric Company

[Docket No. ER02-1239-000]

Take notice that on March 4, 2002, Pennsylvania Electric Company submitted for filing a letter agreement (Agreement) between Penelec and its affiliate, FirstEnergy Solutions Corp. (FE Solutions). Under the Agreement, FE Solutions has agreed to the operational and financial responsibilities set forth in the Manuals in connection with FE Solutions becoming the Load Serving Entity for the Pennsylvania Borough of East Conemaugh. Copies of the filing were served upon FE Solutions, PJM and regulators in the Commonwealth of Pennsylvania.

Comment Date: March 25, 2002.

8. Virginia Electric and Power Company

[Docket No. ER02-1240-000]

Take notice that on March 4, 2002, Virginia Electric and Power Company (the Company) respectfully tendered for filing the following Service Agreement by Virginia Electric and Power Company to Sempra Energy Trading Corp., designated as Service Agreement No. 1 under the Company's Wholesale Cost-Based Rate Tariff, FERC Electric Tariff, Original Volume No. 7, effective on January 16, 2002.

The Company requests an effective date of February 1, 2002, as requested by the customer. Copies of the filing were served upon Sempra Energy Trading Corp., the Virginia State Corporation Commission, and the North Carolina Utilities Commission.

Comment Date: March 25, 2002.

9. Southern California Edison Company

[Docket No. ER02-1241-000]

Take notice that on March 4, 2002, Southern California Edison Company, (SCE) submitted a Letter Agreement between SCE and the City of Industry Public Utilities Commission (Industry). The Letter Agreement provides for SCE to commence with construction of interconnection facilities and to extend a distribution circuit in order to provide wholesale distribution service.

Copies of this filing were served upon the Public Utilities Commission of the State of California and Industry.

Comment Date: March 25, 2002.

10. West Texas Utilities Company

[Docket No. ER02-1242-000]

Take notice that on March 4, 2002, West Texas Utilities Company (WTU) filed with the Federal Energy Regulatory Commission (Commission) revisions to a service agreement between WTU and the City of Weatherford, Texas (Weatherford) under WTU's market-based rate power sales tariff. Effective February 1, 2002, the revision replaces the formula used to compute the fuel charge for sales to Weatherford under the service agreement with a fixed fuel charge.

WTU seeks an effective date of February 1, 2002 for the revised service agreement and, accordingly, seeks waiver of the Commission's notice requirements. Copies of the filing have been served on Weatherford and on the Public Utility Commission of Texas.

Comment Date: March 25, 2002.

11. PPL Brunner Island, LLC

[Docket No. ER02-1243-000]

Take notice that on March 4, 2002, PPL Brunner Island, LLC (PPL Brunner Island), filed with the Federal Energy Regulatory Commission a Power Sales Agreement between PPL Brunner Island and Brunner Island Services, LLC under PPL Brunner Island's Market-Based Rate Tariff, FERC Electric Tariff, Original Volume No. 1.

PPL Brunner Island requests an effective date of February 1, 2002 for the Power Sales Agreement. PPL Brunner Island states that a copy of this filing has been provided to Brunner Island Services, LLC.

Comment Date: March 25, 2002.

12. PPL Montour, LLC

[Docket No. ER02-1244-000]

Take notice that on March 4, 2002, PPL Montour, LLC (PPL Montour), filed with the Federal Energy Regulatory Commission a Power Sales Agreement between PPL Montour and Montour Services, LLC under PPL Montour's Market-Based Rate Tariff, FERC Electric Tariff, Original Volume No. 1.

PPL Montour requests an effective date of February 1, 2002 for the Power Sales Agreement. PPL Montour states that a copy of this filing has been provided to Montour Services, LLC.

Comment Date: March 25, 2002.

13. Jersey Central Power & Light Company Metropolitan Edison Company Pennsylvania Electric Company

[Docket No. ER02-1245-000]

Take notice that on March 4, 2002, Jersey Central Power & Light Company, Metropolitan Edison Company and Pennsylvania Electric Company (d/b/a GPU Energy), filed an executed Service Agreement between GPU Energy and Aquila Energy Marketing Corporation (AQUILA), dated March 1, 2002. This Service Agreement specifies that AQUILA has agreed to the rates, terms and conditions of GPU Energy's Market-Based Sales Tariff (Sales Tariff) designated as FERC Electric Rate Schedule, Second Revised Volume No. 5. The Sales Tariff allows GPU Energy and AQUILA to enter into separately scheduled transactions under which GPU Energy will make available for sale, surplus capacity and/or energy.

GPU Energy requests a waiver of the Commission's notice requirements for good cause shown and an effective date of March 1, 2002 for the Service Agreement. GPU Energy has served copies of the filing on regulatory agencies in New Jersey and Pennsylvania.

Comment Date: March 25, 2002.

14. The Dayton Power and Light Company

[Docket No. ER02-1246-000]

Take notice that on March 4, 2002, The Dayton Power and Light Company (Dayton) submitted to the Federal Energy Regulatory Commission (Commission) service agreements establishing NRG Power Marketing Inc., as a customer under the terms of Dayton's Open Access Transmission Tariff.

Dayton requests an effective date of one day subsequent to this filing for the service agreements. Dayton requests waiver of the Commission's notice requirements. Copies of this filing were served upon NRG Power Marketing Inc., and the Public Utilities Commission of Ohio.

Comment Date: March 25, 2002.

15. The Dayton Power and Light Company

[Docket No. ER02-1247-000]

Take notice that on March 4, 2002, The Dayton Power and Light Company (Dayton) submitted service agreements establishing The Dayton Power & Light Company (Energy Services) as customers under the terms of Dayton's Open Access Transmission Tariff.

Dayton requests an effective date of one day subsequent to this filing for the service agreements. Accordingly, Dayton requests waiver of the Commission's notice requirements. Copies of this filing were served upon The Dayton Power & Light Company (Energy Services) and the Public Utilities Commission of Ohio.

Comment Date: March 25, 2002.

16. The Dayton Power and Light Company

[Docket No. ER02-1248-000]

Take notice that on March 4, 2002, The Dayton Power and Light Company (Dayton) submitted service agreements establishing NRG Power Marketing Inc. as a customer under the terms of Dayton's Open Access Transmission Tariff.

Dayton requests an effective date of one day subsequent to this filing for the service agreements. Accordingly, Dayton requests waiver of the Commission's notice requirements. Copies of this filing were served upon NRG Power Marketing Inc. and the Public Utilities Commission of Ohio.

Comment Date: March 25, 2002.

17. Mississippi Power Company

[Docket No. ER02-1249-000]

Please take notice that Mississippi Power Company on March 5, 2002, tendered for filing proposed changes in its FERC Electric Tariff, First Revised Volume Number 1. The proposed changes would increase revenues from jurisdictional sales and service by $10,537,835 based on the 12-month period ending December 31, 2002, add an energy cost management clause to the tariff, change the formula for the fuel adjustment clause and restate the tariff, all in accordance with a settlement agreement between Mississippi Power Company and all its customers who take service under the tariff.

Copies of the filing were served upon South Mississippi Electric Power Association, East Mississippi Electric Power Association, Coast Electric Power Association, Pearl River Valley Electric Power Association, Singing River Electric Power Association, Dixie Electric Power Association, Southern Pine Electric Power Association, the City of Collins, Mississippi, the Mississippi Public Service Commission, and the Mississippi Public Utilities Staff.

Comment Date: March 26, 2002.

18. West Georgia Generating Company, L.L.C.

[Docket No. ER02-1250-000]

Take notice that on March 5, 2002, West Georgia Generating Company, L.L.C. (West Georgia) tendered for filing one confidential, unredacted copy and fourteen redacted copies of the First Amended and Restated Negotiated Contract for the Purchase of Firm Capacity and Energy between West Georgia Generating Company, L.L.C. and Georgia Power Company (Negotiated Contract), as First Revised Service Agreement No. 4 under West Georgia's market-based rate tariff. West Georgia requested confidential treatment for the unredacted copy of the Negotiated Contract.

Comment Date: March 26, 2002.

19. Allegheny Energy Service Corporation, on Behalf of Monongahela Power Company, The Potomac Edison Company, and West Penn Power Company (Allegheny Power)

[Docket No. ER02-1251-000]

Take notice that on March 5, 2002, Allegheny Energy Service Corporation on behalf of Monongahela Power Company, The Potomac Edison Company, and West Penn Power Company (Allegheny Power), filed Interconnection Agreements (Agreements) with Allegheny Energy Supply Company, LLC—Albright (Service Agreement No. 376), Allegheny Energy Supply Company, LLC—Armstrong (Service Agreement No. 377), Allegheny Energy Supply Company, LLC—Fort Martin (Service Agreement No. 378), Allegheny Energy Supply Company, LLC—Harrison (Service Agreement No.379), Allegheny Energy Supply Company, LLC—Hatfield (Service Agreement No. 380), Allegheny Energy Supply Company, LLC—Lake Lynn (Service Agreement No. 381), Allegheny Energy Supply Company, LLC—Mitchell (Service Agreement No. 382), Allegheny Energy Supply Company, LLC—Pleasants (Service Agreement No.383), Allegheny Energy Supply Company, LLC—Rivesville (Service Agreement No. 384), Allegheny Energy Supply Company, LLC—Willow Island (Service Agreement No. 385) and Allegheny Energy Supply Company, LLC—R. Paul Smith (Service Agreement No. 386) under Allegheny Power's Open Access Transmission Tariff. The proposed effective date under the Agreements is March 6, 2002.

Copies of the filing have been provided to the Public Utilities Commission of Ohio, the Pennsylvania Public Utility Commission, the Maryland Public Service Commission, the Virginia State Corporation Commission, the West Virginia Public Service Commission, and all parties of record.

Comment Date: March 26, 2002.

Standard Paragraph

E. Any person desiring to be heard or to protest such filing should file a motion to intervene or protest with the Federal Energy Regulatory Commission, 888 First Street, NE., Washington, DC 20426, in accordance with rules 211 and 214 of the Commission's rules of practice and procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Magalie R. Salas,
Secretary.

[FR Doc. 02-6508 Filed 3-18-02; 8:45 am]

BILLING CODE 6717-01-P